SMALL BUSINESS ADMINISTRATION

[Declaration of Disaster No. 3643]

State of Tennessee

Dyer and Wayne Counties and the contiguous counties of Crockett, Decatur, Gibson, Hardin, Lake, Lauderdale, Lawrence, Lewis, Obion, and Perry in the State of Tennessee; Pemiscot County in the State of Missouri; Mississippi County in the State of Arkansas; and Lauderdale County in the State of Alabama constitute a disaster area as a result of tornadoes and heavy rains on October 18-19, 2004. Applications for loans for physical damage as a result of this disaster may be filed until the close of business on January 3, 2005, and for economic injury until the close of business on August 3, 2005, at the address listed below or other locally announced locations: U.S. Small Business Administration, Disaster Area 2 Office, One Baltimore Place, Suite 300, Atlanta, GA 30308.

The interest rates are:

| Percent
For Physical Damage:
Homeowners with Credit Available Elsewhere | 6.375
Homeowners Without Credit Available Elsewhere | 3.187
Businesses with Credit Available Elsewhere | 5.800
Businesses and Non-Profit Organizations Without Credit Available Elsewhere | 2.900
Others (Including Non-Profit Organizations) with Credit Available Elsewhere | 4.875
For Economic Injury:
Businesses and Small Agricultural Cooperatives Without Credit Available Elsewhere | 2.900

The number assigned to this disaster for physical damage is 364312 for Tennessee, 364412 for Missouri, 364512 for Arkansas, and 364612 for Alabama. The number assigned to this disaster for economic injury damage is 9AI700 for Tennessee, 9AI800 for Missouri, 9AI900 for Arkansas, and 9AJ100 for Alabama.

(Catalog of Federal Domestic Assistance Program Nos. 59002 and 59008.)

Dated: November 3, 2004.
Hector V. Barreto,
Administrator.

[FR Doc. 04-25225 Filed 11-10-04; 8:45 am]

BILLING CODE 8025-01-P